SURFACE TRANSPORTATION BOARD

[Docket No. AB 167 (Sub-No. 1189X)]

Consolidated Rail Corporation—Abandonment Exemption—in Hudson County, N.J.

AGENCY: Surface Transportation Board.

ACTION: Notice of Availability of the Draft Supplemental Environmental Assessment and request for comments.

SUMMARY: Notice is hereby given of the availability of the Draft Supplemental Environmental Assessment.

DATES: The Draft Supplemental Environmental Assessment will be available for public review and comment on September 10, 2020. Comments are due on October 19, 2020.

ADDRESSES: Comments on this Draft Supplemental Environmental Assessment should be submitted electronically on the STB's website: https://prod.stb.gov. Please refer to Docket No. AB 167 (Sub-No. 1189X) in all comments submitted.

FOR FURTHER INFORMATION CONTACT: Adam Assenza, 202-245-0301, Adam.Assenza@stb.gov.

SUPPLEMENTARY INFORMATION: On September 10, 2020, the Surface Transportation Board's (Board) Office of Environmental Analysis (OEA) issued a Draft Supplemental Environmental Assessment (DSEA) in the pending rail-line abandonment proceeding, Consolidated Rail Corporation-Abandonment Exemption-in Hudson County, N.J., Docket No. AB 167 (Sub-No. 1189X), in which Conrail seeks authority to abandon the Harsimus Branch, a 1.36-mile rail line in Jersey City, N.J. Following the issuance of a Draft Environmental Assessment (EA) in 2009, the Board stayed the abandonment proceeding for several years while the parties litigated jurisdictional issues in court. The DSEA updates and addresses changed circumstances and new information since the issuance of the Draft EA, responds to comments on the Draft EA, and provides further opportunity for public comment on environmental issues under the National Environmental Policy Act (NEPA) (historic issues are being considered in a separate process). Comments on the DSEA may be submitted electronically through the Board's website and are due on October 19, 2020.

Following receipt of comments on this DSEA, OEA will prepare and issue a Final EA. The issuance of the Final EA will conclude the NEPA review process for this abandonment proceeding. Once OEA completes both the Section 106 process and the NEPA review, the Board will consider the recommendations from OEA concerning the effects of the proposed abandonment on the environment and historic resources, will balance that information with the transportation merits of the proceeding, and will issue a final decision approving, denying, or approving with the imposition of conditions a grant of abandonment authority to Conrail.

Dated: September 8, 2020.
By the Board, Victoria Ruston, Director, Office of Environmental Analysis.
Kenyatta Clay,
Clearance Clerk.

[FR Doc. 2020-20081 Filed 9-10-20; 8:45 am]

BILLING CODE 4915-01-P